DEPARTMENT OF HOMELAND SECURITY

[Docket Number DHS-2025-0005]

Agency Information Collection Activities: Request for Case Assistance Form, DHS Form 7001, 1601-0004

AGENCY: Department of Homeland Security (DHS).

ACTION: 60-Day notice and request for comments.

SUMMARY: The Department of Homeland Security will submit the following Information Collection Request (ICR) to the Office of Management and Budget (OMB) for review and clearance in accordance with the Paperwork Reduction Act of 1995.

DATES: Comments are encouraged and will be accepted until May 13, 2025. This process is conducted in accordance with 5 CFR 1320.1

ADDRESSES: You may submit comments, identified by docket number Docket #DHS-2025-0005, at:

○ Federal eRulemaking Portal: https://www.regulations.gov. Please follow the instructions for submitting comments.

Instructions: All submissions received must include the agency name and docket number Docket #DHS-2025-0005. All comments received will be posted without change to https://www.regulations.gov, including any personal information provided.

Docket: For access to the docket to read background documents or comments received, go to https://www.regulations.gov.

SUPPLEMENTARY INFORMATION: The Office of the Citizenship and Immigration Services Ombudsman (CIS Ombudsman) was created under section 452 of the Homeland Security Act of 2002 (Pub. L. 107-296) to: (1) assist individuals and employers in resolving problems with U.S. Citizenship and Immigration Services (USCIS); (2) to identify areas in which individuals and employers have problems in dealing with USCIS; and (3) to the extent possible, propose changes in the administrative practices of USCIS to mitigate problems. This form is used by individuals and employers who are experiencing problems with USCIS during the processing of immigration benefits. Authorities that support this information collection include:

• Section 452 of the Homeland Security Act provides the legal authority for the CIS Ombudsman.

The information is collected on the DHS Form 7001, Case Assistance Request, which is available electronically or via pdf on the CIS Ombudsman website. Individuals and employers (or their legal representatives) experiencing problems with USCIS may submit a DHS Form 7001. The information contained on the form allows the CIS Ombudsman to identify the problem encountered by individuals and employers seeking immigration benefits and inquire with USCIS to resolve the issue. In the past, this information has been used to understand the issue the customer is trying to resolve, to obtain information needed to research USCIS systems, and to relay USCIS communications to the customer. This information has been collected on the electronic or paper DHS Form 7001 for over a decade. The electronic version is automatically integrated into the CIS Ombudsman's Case Assistance Analytics and Data Integration (CAADI) case management system; paper versions received by email, mail or fax are ingested manually and saved electronically in the case management system.

(a) Proposed form enhancements:

To enhance the form's usability:

• Limit each request to one immigration issue.

• Remove questions customers did not historically answer correctly.

• Enhance the instructions in each form section.

• Re-order form sections (see below) to reflect the customer's perspective.

The revised form will include these re-ordered, merged, and re-named sections. Delete former Section 4, Form Type.

1. Move Section 10 to 1: Person Completing the Form

a. Ask who is completing the form upfront so that attorneys can enter their information first and upload the required Form G-28 in Section 9.

2. Move Sections 5 & 6 to 2: Name of Applicant or Petitioner & Contact Information

3. Rename Section 3: Application or Petition Filed with USCIS

4. Move Section 7 to 4 and rename: Biographical Information for Applicant or Petitioner

5. Delete old Section 4

6. Move Section 11 to 5: Beneficiary Information

a. Expanded to include more than just employment-based petitions

7. Move Section 2 to 6: Reason for Requesting Case Assistance

a. Now limited to one reason/issue

8. Merge Sections 1A & B, Actions Taken with USCIS and move to Section 7

9. Section 8: Supporting Documentation

a. Now cross-referenced with new Section 1.

10. Move Section 12 to 9: How Did You Learn About Our Case Assistance Services?

11. Merge Sections 9 and 10 into new Section 10: Consent

a. A new single consent section with a pop-up signature based on role, to include third parties.

The CIS Ombudsman collects and processes requests for case assistance, the majority of which are submitted electronically through the DHS website. This form provides the most efficient means for collecting and processing the required data. The electronic form feeds the information collected directly into CAADI. Per Paperwork Reduction Act (PRA) requirements, a fillable PDF version is also available on the website and may be emailed or printed and mailed or faxed to the CIS Ombudsman. The information on the paper forms are manually entered and then scanned into the CAADI system and then destroyed. Using the paper method may result in delays due to mail delivery and intake processing. Once approved, the online and PDF versions of the new form will be posted on the CIS Ombudsman's website at https://www.dhs.gov/case-assistance. The paper form remains available because some individuals are unable to access or lack the skill to use the electronic version of the DHS Form 7001. The CIS Ombudsman has enhanced completion of the DHS Form 7001 on mobile devices to further reduce paper use.

Burden Reduction Initiatives in 2024

(a) See Section 2 for proposed form enhancements.

(b) New Format for Hard Copy Version: Once the renewed form is approved, the CIS Ombudsman will roll out a redesigned and updated hard copy version of the form in PDF format for both ease of use and compliance with the 21st Century Integrated Digital Experience Act.

(c) New Foreign Language Capabilities: The form must be submitted in English, but it will be translated into the following five most frequently requested languages to make it easier for immigrants from these countries to complete the form and instructions. The CIS Ombudsman also initiated translation and interpretation services for customers with limited English proficiency in October 2024.

(d) New Online Portal: The CIS Ombudsman launched a new web portal to provide better customer service while also saving staff time. Currently, customers who have submitted the Form 7001 call or email the CIS Ombudsman to check their case status, and where applicable, the CIS Ombudsman emails customers to request additional documents needed to process the request. The new web portal provides customers with an online self-service tool, enabling staff to focus on more complex customer inquiries. Customers can access the new web portal via a link on the online Form 7001 web page. The web portal then shares data with CAADI to provide two functions: (1) the Online Case Status Check functionality allows individuals and employers to check the current status of their case online; and (2) the Online Document Upload functionality allows individuals and employers to submit additional documentation for a previously submitted case. Users now have the ability to upload on-demand as well as in response to email requests initiated by the CIS Ombudsman. Case assistance request number and email address are required for submission, and a confirmation email is sent after document upload is successful. Customers do not have to create an account or login but are required to provide their case assistance request number, which was provided in their submission confirmation email, and their email address. The email address is needed to verify the identity of the requestor.

a. What's new in 2024 for the customer:

b. Before you submit: You will see a simpler, cleaner online DHS Form 7001, Request for Case Assistance page with an easy link to our Tips for Submitting a Case Assistance Request.

i. The tips address specific situations like signing on behalf of clients and requests involving multiple form types or family members.

c. While you complete the form: Instead of a series of accordion sections, you will see an interactive form with these new features:

i. A progress bar to help you see how much of the form you have completed.

ii. Sections that adapt the questions based on your answers to help you know what fields to complete.

iii. Alerts in each section that tell you if you are missing information.

iv. A clearer view of the forms and/or beneficiaries you have already added.

v. A screen for reviewing and editing your answers before submitting.

vi. Your CIS Ombudsman Request Number appearing on the confirmation page after you submit the form.

d. After you submit: Use these two new features:

i. Upload Requested Documents (after submitting your request): If you experience problems uploading documents when you submit DHS Form 7001 or if you need to add more documents afterwards, you can use this tab to upload documents.

ii. Check the Status of Your Request: You can use this tab to track the status of your case assistance request. You will also see an overview of the different steps your request goes through as we work on it.

(e) Usability Test: The CIS Ombudsman also completed a usability test on the form.

a. What was the purpose of the UX? To identify any pain points in completing the online form, both on a computer and a mobile phone.

b. How many participants? Six: 3 were familiar with the form and 3 were not.

c. Here is a list of customer findings and recommended form fixes by section:

(a) General Observations:

1. Average completion time for all six participants was 50 minutes. One completed the form in 20 minutes, while it took others over an hour to complete.

2. Some instructions are placed after the field requesting the related information.

a. For example, in Section 1A customers are asked to upload supporting documents but the instructions and functionality are in Section 8.

3. Some people wondered if they could go back and edit their data.

a. FIX: Add a note to the General Instructions that you can make edits at the end before submitting the form.

(b) General Instructions:

1. None of the participants opened and read the instructions.

a. FIX: Enhance the instructions within each section of the form.

(c) Section 1A—Actions Taken:

1. When we ask if they've already contacted USCIS, some did not understand that we are asking whether they used USCIS' customer service options.

a. FIX: suggest we make this very clear in our public-facing materials and engagements.

2. Some wanted to enter their complete history rather than focusing on the past 60-90 days as we want them to.

a. FIX: Instructions should emphasize we want their most RECENT contact date with USCIS and why we are asking.

3. Some wanted to tell whole life story in the small comment box about actions taken because they didn't read question carefully—and then later wanted to go back.

a. FIX: Recommend combining 1A and 1B.

4. Instructions above box say to attach documents without stating how to do so.

a. FIX: Add text on where and how to upload documents.

(d) Section 1B—Other Actions: Recommendation is to merge Sections 1A & B.

1. Can we delete Option 1: Contacted a U.S. government department or agency for assistance. People may assume it refers to USCIS.

2. Option 2: Congressional inquiry, “Response Received, Yes or No?”—do we want to know if they received a response to the congressional inquiry or if Congress received a response to their inquiry to USCIS?

a. FIX: add text to state we want the congressional response sent to the individual.

(e) Section 2—Reasons for Request:

1. We start with what actions did you take; the intent was to weed out people whose issues weren't ripe for a request for case assistance. But from their perspective, they want to tell us their problem and ask for our help and that's what we should let them do first.

a. FIX: Recommend moving this section before Section 1; see #3 below.

2. Checkbox comments: use plain language, shorten text, and alphabetize the list.

a. FIX: Edit the master redlined form accordingly.

3. Some said they already provided an explanation of their issue in section 1a, then retyped it here.

a. FIX: Reduce to one explanation box and emphasis that we need to know what happened when they contacted USCIS.

(f) Section 3—Applications/Petitions Filed:

1. For Form I-90, sub-options are confusing.

a. FIX: Do we need to know these things?

1. 10-year renewal.

2. initial issue or replacement.

2. Unable to cut and paste receipt number, even w/o dashes.

a. FIX: Ask developers if possible.

3. Some were confused about what is meant by “Primary”; others were confused about which form to submit.

a. FIX: Should we reformat this section to make it simpler? Options include:

1. Put the instructions at the top.

1. Check the “Primary” box next to the USCIS receipt number for which you seek assistance.

2. Receipt date/Filing date need to be clarified; language on Form 797 varies.

4. Recommend moving the view that shows that you submitted a form up at the top rather than below because folks thought it didn't save and started to put it in again.

a. FIX: Clarify instructions: after you SAVE, scroll down, and click on NEXT.

(g) Section 4—Type of Benefit: Recommendation is to delete this section.

(h) Section 5—Applicant Name:

1. Move Applicant Name to the top of the form with one form per person.

2. Confusion around selecting individual or organization. Do we want the individual's contact info or their attorney's?

a. FIX: Make it clear we will not contact a represented individual directly.

3. One participant said completing this section and #6 slows them down because it is not easy to cut and paste info from other sources into the form.

a. FIX: Ask developers if possible.

(i) Section 6—Contact Information:

1. Again, confusion about whose information to enter.

a. FIX: add instructions at the top and refer to Section 5.

b. The PDF version [with CX revisions] includes these instructions:

1. Provide contact information for the individual (applicant/petitioner) or employer encountering difficulties with USCIS.

2. If you provide a legal representative's contact information instead of the individual or employer's contact information you must submit the Notice of Entry of Appearance (Form G-28) that you already have submitted to USCIS for the application/petition for which you seek our assistance. Full legal representative contact information can be added in Section 10 of this form.

2. Almost all participants were confused about email vs. snail mail options.

a. FIX: Box language has been adjusted as of 9/20/24.

3. Adding USPS address verification would be useful.

a. FIX: Added USPS address verification code in November 2024.

(j) Section 7—Identification:

1. Unable to cut and paste in the A-Number.

a. FIX: Ask developers if possible.

(k) Section 8—Supporting Documents:

1. First mention of G-28; mention earlier in the form?

a. FIX: Ask if submitter is an attorney, congressional rep, or DSO up front. If so, ask to upload appropriate form.

2. Suggest moving instructions in footer to top of section: file size/name/type.

a. Also add this information to the General Instructions.

3. Some had difficulty uploading documents, encountering either a delay or a blank screen.

a. There is a virus scan “pending” message.

(l) Section 11—Beneficiary Information:

1. Suggest delete this section if not useful or only make it appear for I-129 petitioners, and if can be just for H-2A/H-2B, even better.

2. If retained, add an N/A option.

When we last revised Form 7001, for the first time we added an addendum to allow certain petitioning employers to include beneficiary employee information that is needed for the CIS Ombudsman to inquire with USCIS. In the past, the CIS Ombudsman did not have a designated place to collect this beneficiary employee information and as a result, this caused delays in seeking assistance because the CIS Ombudsman had to reach out to petitioning employers for additional information.

If this information is not collected, the CIS Ombudsman will not be able to assist individuals and employers experiencing problems who request our assistance during the processing of an immigration benefit with USCIS.

The CIS Ombudsman follows fundamental ombudsman principles, such as confidentiality, neutrality, and independence while undertaking its statutory mission. In addition:

(a) Section 1367 confidentiality and prohibited source provisions prohibit employees of DHS, Department of State, or Department of Justice from permitting the use or disclosure of any information relating to an individual for a pending or approved application or petition for victim-based immigration benefits to anyone other than a sworn officer or employee of these Departments for legitimate agency purposes, unless one of several exceptions apply.

Section 1367 is flagged for applicable customers in their CAADI case record. It can be set by the analyst but is also triggered by the specific form types. We follow USCIS procedures regarding confidential cases.

(b) Pursuant to the Privacy Impact Assessment for CAADI, any risk that information in the CAADI system may be accessed by individuals without the proper clearances and without a need to know is mitigated as follows: (1) CIS Ombudsman personnel receive annual privacy training and introductory training on CAADI before they are given an account name and password, and specialized access and security control training as a prerequisite for authorization to use the system; and (2) all staff are able to see information on any case, but the ability to edit information is restricted through user permissions and standard DHS rules of behavior.

The time estimate to complete the current form was increased from 30 to 50 minutes based on the customer usability study. However, the steps we will and have taken to reduce completion time using the new form are summarized in the responses to Questions 2 and 3.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security (DHS).

Title: Request for Case Assistance Form.

OMB Number: 1601-0004.

Frequency: On Occasion.

Affected Public: Individuals or Households.

Number of Respondents: 23,591.

Estimated Time per Respondent: 50 mins.

Total Burden Hours: 19,659.

Robert Dorr,
Executive Director, Business Management Directorate.

[FR Doc. 2025-03914 Filed 3-13-25; 8:45 am]

BILLING CODE 9112-FL-P